DEPARTMENT OF ENERGY

Federal Energy Regulatory Commission

[Project No. P-2464-015; Project No. P-2484-018]

Gresham Municipal Utilities; Notice Of Application Accepted For Filing, Ready For Environmental Analysis And Soliciting Comments, Recommendations, Terms And Conditions, And Prescriptions

Take notice that the following hydroelectric application has been filed with the Commission and is available for public inspection.

a. Type of Application: Subsequent License.

b. Project Nos.: P-2464-015 and P-2484-018.

c. Date filed: June 10, 2013.

d. Applicant: Gresham Municipal Utilities (Gresham).

e. Name of Projects: Weed Dam Hydroelectric Project and Upper Red Lake Dam Hydroelectric Project.

f. Location: On the Red River, in Shawano County, Wisconsin. Neither project would occupy federal lands.

g. Filed Pursuant to: Federal Power Act 16 U.S.C. 791 (a)—825(r).

h. Applicant Contact: Mr. Art Bahr, Utilities Manager, Gresham Municipal Utilities, 1126 Main Street, P.O. Box 50, Gresham, WI 54128; Telephone (715) 787-3994.

i. FERC Contact: Bryan Roden-Reynolds at (202) 502-6618, or via email at bryan.roden-reynolds@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include: Weed Dam Hydroelectric Project No. P-2464-015 and Upper Red Lake Dam Project No. P-2484-018.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing, and is ready for environmental analysis at this time.

l. The existing Weed Dam Hydroelectric Project consists of: (1) A gated 64-foot-long concrete spillway with four bays, each containing 5-foot-high tainter gate; (2) two 700-foot-long earth embankments on either side of the spillway; (3) a 244-acre reservoir with a storage capacity of 1,200 acre-feet; (4) two buried steel penstocks; and (5) a concrete powerhouse with one 500-kW turbine-generator unit and one 120-kW turbine-generator unit having a total installed capacity of 620 kW; (6) a 100-foot-long transmission line; (7) a substation; and (8) appurtenant facilities. The project has an annual average generation of approximately 1,490-megawatt-hours (MWh).

The existing Upper Red Lake Dam Hydroelectric Project consists of: (1) A 42-foot-long concrete dam with a gated spillway section, a concrete overflow section, and a concrete non-overflow section; (2) two short earth embankments on either side of the concrete dam; (3) a 239-acre reservoir; (4) a penstock-and-surge-tank arrangement that delivers flow to the powerhouse; and (5) a 61.5-foot-long by 53-foot-wide concrete and brick powerhouse with one 275-kW turbine-generator unit and one 175-kW turbine-generator unit having a total installed capacity of 450 kW; (6) a substation with three 333-kVA transformers; and (7) appurtenant facilities. The project has an annual average generation of approximately 1,900 MWh.

Gresham proposes to operate both projects in a run-of-river mode, such that the water surface elevation of the impoundments would be maintained at the existing normal pool elevation (crest of the dam spillway) or above. No new or upgraded facilities, structural changes, or operational changes are proposed for the projects.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via email of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

Dated: April 9, 2014.
Kimberly D. Bose,
Secretary.

[FR Doc. 2014-08492 Filed 4-14-14; 8:45 am]

BILLING CODE 6717-01-P